DEPARTMENT OF DEFENSE

Office of the Secretary

Meeting of the Defense Business Board

AGENCY: Department of Defense.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces the following Federal advisory committee meeting of the Defense Business Board (DBB).

DATES: The public meeting of the Defense Business Board (hereafter referred to as “the Board”) will be held on Thursday, July 21, 2011. The meeting will begin at 9:30 a.m. and end at 12 p.m. (Escort required; See guidance in section below, “Public's Accessibility to the Meeting.”)

ADDRESSES: Room 3D557 in the Pentagon, Washington, DC (escort required; See guidance in section below, “Public's Accessibility to the Meeting.”)

FOR FURTHER INFORMATION CONTACT: The Board's Designated Federal Officer (DFO) is Phyllis Ferguson, Defense Business Board, 1155 Defense Pentagon, Room 5B1088A, Washington, DC 20301-1155, Phyllis.ferguson@osd.mil, 703-695-7563. For meeting information please contact Ms. Debora Duffy, Defense Business Board, 1155 Defense Pentagon, Room 5B1088A, Washington, DC 20301-1155, Debora.Duffy@osd.mil, (703) 697-2168.

SUPPLEMENTARY INFORMATION: At this meeting, the Board will deliberate draft findings and recommendations from the “Energy Acquisition,” “Military Retirement—Alternative Plans,” “Global Logistics Management” and “Corporate Downsizing Applications for DoD” Task Groups. The Board will also receive updates from the “New Ways to Execute the Joint Requirements Process,” and “Information Technology Modernization” Task Groups. The mission of the Board is to advise the Secretary of Defense on effective strategies for implementation of best business practices of interest to the Department of Defense.

Agenda

Public Session

9:30-10:30 Deliberation of Task Group Recommendations

—Energy Acquisition

—Military Retirement—Alternative Plans

10:30-10:45 Break

10:45-11:45 Deliberation of Task Group Recommendations

—Global Logistics Management

—Corporate Downsizing Applications for DoD

11:45-12 Task Group Updates

—New Ways to Execute the Joint Requirements Process

—Information Technology Modernization

End of Public Session

Availability of Materials for the Meeting: A copy of the agenda for the July 21, 2011 meeting and the terms of reference for the Task Groups may be obtained at the meeting or from the Board's Web site at http://dbb.defense.gov/meetings.html under “Upcoming Meetings: 21 July 2011.”

Public's Accessibility to the Meeting: Pursuant to 5 U.S.C. 552b and 41 CFR 102-3.140 through 102-3.165, and the availability of space, part of this meeting is open to the public. Seating is limited and is on a first-come basis. All members of the public who wish to attend the public session of the meeting must contact Ms. Debora Duffy at the number listed in this notice no later than noon on Wednesday, July 13 to register and make arrangements for a Pentagon escort, if necessary. Public attendees requiring escort should arrive at the Pentagon Metro Entrance in time to complete security screening by no later than 9 a.m. To complete security screening, please come prepared to present two forms of identification and one must be a pictured identification card.

Special Accommodations: Individuals requiring special accommodations to access the public meeting should contact Ms. Duffy at least five (5) business days prior to the meeting so that appropriate arrangements can be made.

Procedures for Providing Public Comments

Pursuant to 41 CFR 102-3.105(j) and 102-3.140, and section 10(a)(3) of the Federal Advisory Committee Act of 1972, the public or interested organizations may submit written comments to the Board about its mission and topics pertaining to this public session.

Written comments should be received by the DFO at least five (5) business days prior to the meeting date so that the comments may be made available to the Board for their consideration prior to the meeting. Written comments should be submitted via e-mail to the address for the DFO given in this notice in either Adobe Acrobat or Microsoft Word format. Please note that since the Board operates under the provisions of the Federal Advisory Committee Act, as amended, all public presentations will be treated as public documents and will be made available for public inspection, including, but not limited to, being posted on the Board's Web site.

Dated: June 27, 2011.
Aaron Siegel,
Alternate OSD Federal Register Liaison Officer, Department of Defense.

[FR Doc. 2011-16603 Filed 6-30-11; 8:45 am]

BILLING CODE 5001-06-P